DEPARTMENT OF COMMERCE

International Trade Administration

[A-533-843]

Certain Lined Paper Products From India: Final Results of Antidumping Duty Administrative Review and Final Determination of No Shipments; 2018-2019

AGENCY: Enforcement and Compliance, International Trade Administration, Department of Commerce.

SUMMARY: The Department of Commerce (Commerce) determines that Navneet Education Ltd. (Navneet) and Super Impex did not make sales of certain lined paper products from India at prices below normal value during the period of review (POR) September 1, 2018, through August 28, 2019. In addition, Commerce determines that Marisa International had no shipments during the POR.

DATES: Applicable May 25, 2021.

FOR FURTHER INFORMATION CONTACT: Samuel Brummitt, AD/CVD Operations, Office III, Enforcement and Compliance, International Trade Administration, U.S. Department of Commerce, 1401 Constitution Avenue NW, Washington, DC 20230; telephone: (202) 482-7851.

SUPPLEMENTARY INFORMATION:

Background

On January 19, 2021, Commerce published the Preliminary Results.¹ On April 24, 2020, Commerce tolled all deadlines in administrative reviews by 50 days.² On July 21, 2020, Commerce tolled all deadlines in administrative reviews by an additional 60 days.³ The deadline for the final results of this review is now May 19, 2021. For a complete description of the events that occurred since the Preliminary Results, see the Issues and Decision Memorandum.⁴

¹ See Certain Lined Paper Products from India: Preliminary Results of Antidumping Duty Administrative Review and Preliminary Determination of No Shipments; 2018-2019, 86 FR 5132 (January 19, 2021) (Preliminary Results), and accompanying Preliminary Decision Memorandum.

² See Memorandum, “Tolling of Deadlines for Antidumping and Countervailing Duty Administrative Reviews in Response to Operational Adjustments Due to COVID-19,” dated April 24, 2020.

³ See Memorandum, “Tolling of Deadlines for Antidumping and Countervailing Duty Administrative Reviews,” dated July 21, 2020.

⁴ See Memorandum, “Issues and Decision Memorandum for the Final Results of the Antidumping Duty Order on Certain Lined Paper Products from India; 2018-2019,” dated concurrently with, and hereby adopted by, this notice (Issues and Decision Memorandum).

Scope of the Order

The products covered by this Order are certain lined paper products from India. For a full description of the scope, see the Issues and Decision Memorandum.

Final Determination of No Shipments

In the Preliminary Results, we preliminarily found that Marisa International had no shipments of subject merchandise during the POR. Following the publication of the Preliminary Results, we received no comments from interested parties regarding Marisa International, nor has any party submitted record evidence which would call our preliminary determination of no shipments into question. Therefore, for the final results, we continue to find that Marisa International had no shipments of subject merchandise during the POR. Accordingly, consistent with Commerce's practice, we intend to instruct U.S. Customs and Border Protection (CBP) to liquidate any existing entries of merchandise produced by Marisa International, but exported by other parties, at the rate for the intermediate reseller, if available, or at the all-others rate.⁵

⁵ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Regarding Lodha Offset Limited (Lodha), we received information from CBP indicating possible shipments from Lodha.⁶ Lodha did not comment on the Entry Summary Memorandum. Therefore, for the final results, we continue to find that Lodha had shipments of subject merchandise during the POR. Accordingly, we are including Lodha among the group of companies that are subject to the non-selected rate.

⁶ See Memorandum, “Release of U.S. Customs and Border Protection Information Relating to December 20, 2019, Entry Document Request,” dated January 29, 2020.

Analysis of Comments Received

All issues raised in the case and rebuttal briefs are addressed in the Issues and Decision Memorandum. A list of the issues that parties raised and to which we responded in the Issues and Decision Memorandum is attached to this notice as an Appendix. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/index.html/.

Changes Since the Preliminary Results

Based on a review of the record and comments received from interested parties, we made the following changes to the Preliminary Results:

• Navneet's interest expense ratio.⁷

⁷ See Issues and Decision Memorandum at Comment 1.

• The calculation of the indirect selling expense ratio used in Super Impex's margin analysis.⁸

⁸ Id. at Comment 4.

Final Results of the Review

As a result of this review, Commerce determines that the following weighted-average dumping margins exist for the period September 1, 2018, through August 31, 2019:

Producer/exporter | Weighted- average dumping margin (percent)
Cellpage Ventures Private Limited | 0.00
Goldenpalm Manufacturers PVT Limited | 0.00
Kokuyo Riddhi Paper Products Pvt. Ltd | 0.00
Lodha Offset Limited | 0.00
Lotus Global Private Limited | 0.00
Magic International Pvt. Ltd | 0.00
Navneet Education Ltd | 0.00
PP Bafna Ventures Private Limited | 0.00
Pioneer Stationery Pvt. Ltd | 0.00
SAB International | 0.00
SGM Paper Products | 0.00
Super Impex | 0.00

For the companies that were not selected for individual review, we assigned a rate based on the rates for the respondents that were selected for individual review, excluding rates that are zero, de minimis, or based entirely on facts available.⁹ In accordance with the U.S. Court of Appeals for the Federal Circuit's decision in Albemarle Corp. v. United States, we are applying to the ten companies not selected for individual review the zero percent rates calculated for Navneet and Super Impex.¹⁰ These are the only rates determined in this review for individual respondents and, thus, should be applied to the ten firms not selected for individual review under section 735(c)(5)(B) of the Act.

⁹ See section 735(c)(5)(A) of the Tariff Act of 1930, as amended (the Act).

¹⁰ See Albemarle Corp. v. United States, 821 F.3d 1345 (Fed. Cir. 2016) (Albemarle Corp. v. United States).

Disclosure and Public Comment

We intend to disclose the calculations performed to parties in this proceeding within five days after publication of these final results in the Federal Register, in accordance with section 751(a) of the Act and 19 CFR 351.224(b).

Assessment Rates

Upon completion of this administrative review, Commerce shall determine and U.S. Customs and Border Protection (CBP) shall assess antidumping duties on all appropriate entries. Because the weighted-average dumping margins of Navneet, Super Impex, and the ten firms not selected for individual examination have been determined to be zero within the meaning of 19 CFR 351.106(c), we will instruct CBP to liquidate the appropriate entries without regard to antidumping duties. In accordance with Commerce's practice, for entries of subject merchandise during the POR for which Navneet and Super Impex did not know that the merchandise was destined for the United States, we will instruct CBP to liquidate such entries at the all-others rate if there is no company-specific rate for the intermediate company(ies) involved in the transaction.¹¹

¹¹ See Antidumping and Countervailing Duty Proceedings: Assessment of Antidumping Duties, 68 FR 23954 (May 6, 2003).

Consistent with its recent notice,¹² Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹² See Notice of Discontinuation of Policy to Issue Liquidation Instructions After 15 Days in Applicable Antidumping and Countervailing Duty Administrative Proceedings, 86 FR 3995 (January 15, 2021).

Cash Deposit Requirements

The following cash deposit requirements will be effective for all shipments of the subject merchandise entered, or withdrawn from warehouse, for consumption on or after the publication date of the final results of this administrative review, as provided by section 751(a)(2)(C) of the Act: (1) The cash deposit rate for the companies listed above will be the rate established in the final results of this administrative review; (2) for merchandise exported by producers or exporters not covered in this administrative review but covered in a prior segment of the proceeding, the cash deposit rate will continue to be the company-specific rate published for the most recently completed segment of this proceeding; (3) if the exporter is not a firm covered in this review, a prior review, or the original less-than-fair-value (LTFV) investigation, but the producer is, the cash deposit rate will be the rate established for the most recently completed segment of this proceeding for the producer of the subject merchandise; and (4) the cash deposit rate for all other producers or exporters will continue to be 3.91 percent, the all-others rate established in the LTFV investigation.¹³ These cash deposit requirements, when imposed, shall remain in effect until further notice.

¹³ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (Order).

Notification to Importers

This notice serves as a final reminder to importers of their responsibility under 19 CFR 351.402(f)(2) to file a certificate regarding the reimbursement of antidumping duties and/or countervailing duties prior to liquidation of the relevant entries during this POR. Failure to comply with this requirement could result in the Commerce's presumption that reimbursement of antidumping and/or countervailing duties has occurred and the subsequent assessment of double antidumping duties.

Administrative Protective Order

This notice also serves as a final reminder to parties subject to administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h)(1).

Dated: May 19, 2021.
Christian Marsh,
Acting Assistant Secretary for Enforcement and Compliance.

Appendix

List of Topics Discussed in the Issues and Decision Memorandum

I. Summary

II. Background

III. Scope of the Order

IV. Analysis of Comments

Comment 1: Whether Commerce Should Adjust Navneet's Interest Expense Ratio

Comment 2: Whether Commerce Should Allocate Certain Navneet Trust Expenses to Navneet Education Ltd.

Comment 3: Whether Commerce Should Use the Financial Statements of Arora Gifts Private Limited to Calculate Super Impex's Profit Ratio and Indirect Selling Expense Ratio

Comment 4: Whether Commerce Should Adjust the Calculation of Arora Gifts Private Limited's Indirect Selling Expense Ratio

V. Recommendation

[FR Doc. 2021-11027 Filed 5-24-21; 8:45 am]

BILLING CODE 3510-DS-P